DEPARTMENT OF TRANSPORTATION

Federal Aviation Administration

Notice of Industry Meeting

AGENCY: Federal Aviation Administration (FAA), DOT.

ACTION: Notice of public meeting.

SUMMARY: The Federal Aviation Administration (FAA) is hosting an industry day to introduce the Mini Global II project to the aviation community. The FAA will demonstrate that operational benefits to aviation stakeholders can be realized sooner, while also potentially identifying new synergistic technologies and capabilities.

DATES: The public meeting will be held on October 7, 2014, from 8:30 a.m. to 3:00 p.m.

ADDRESSES: The public meeting will be held at the FAA's Florida NextGen Testbed (FTB), 557 Innovation Way, Daytona Beach, FL 32114.

FOR FURTHER INFORMATION CONTACT: Thien Ngo, Mini Global Project Manager, Technology Development & Prototyping Division ANG-C5, Federal Aviation Administration, 800 Independence Ave. SW., Washington, DC 20591; telephone (202) 267-9447; cell (202) 384-6484; email: thien.ngo@faa.gov.

SUPPLEMENTARY INFORMATION:

Background

Mini Global I is an open communications infrastructure that allows Air Navigation Service Providers (ANSPs), airlines, and other stakeholders to exchange flight, weather, and aeronautical information using the following open standards: Flight Information Exchange Model (FIXM), Aeronautical Information Exchange Model (AIXM), and Weather Information Exchange Model (WXXM).

Mini Global II will focus on the connectivity and data sharing between multiple Enterprise Messaging Services (EMSs). It will identify global policies, protocols, security, and business sensitivity requirements, mediate between diverse EMSs, and provide an infrastructure for future applications/services to benefit Global Air Traffic Management (ATM). It will extend the list of international partnerships and aviation stakeholders to support the validation of FIXM/AIXM/WXXM standards by using additional datasets in supporting complex use cases. The goal of Mini Global II is to further advance the technology and demonstrate future applications by exploiting the capabilities of this infrastructure.

Registration

Attendance at the facility is limited and is on a first come first serve basis. However, a webcast will be provided for those that cannot attend in person. To attend the Industry Day (in person or via webcast), participants must register via the following link: https://www.eventbrite.com/e/mini-global-industry-day-tickets-2298597166.

Issued in Washington, DC, on September 11, 2014.
Andras Kovacs,
Manager, Operational Improvements Portfolio Branch (ANG-C53), NextGen Technology Development & Prototyping Division.

[FR Doc. 2014-22103 Filed 9-16-14; 8:45 am]

BILLING CODE 4910-13-P